DEPARTMENT OF HEALTH AND HUMAN SERVICES

National Institutes of Health

National Center for Research Resources; Notice of Closed Meetings

Pursuant to section 10(d) of the Federal Advisory Committee Act, as amended (5 U.S.C. appendix 2), notice is hereby given of the following meetings.

The meetings will be closed to the public in accordance with the provisions set forth in sections 552b(c)(4) and 552b(c)(6), Title 5 U.S.C., as amended. The grant applications and the discussions could disclose confidential trade secrets or commercial property such as patentable material, and pesonal information concerning individuals associated with the grant applications, the disclosure of which would constitute a clearly unwarranted invasion of personal privacy.

Name of Committee: National Center for Research Resources Special Emphasis Panel, Research Infrastructure.

Date: June 17-18, 2003.

Time: June 17, 2003, 8 a.m. to Adjournment.

Agenda: To review and evaluate grant applications.

Place: Hyatt Regency Bethesda, One Bethesda Metro Center, Bethesda, MD 20814.

Contact Person: Bo Hong, PhD, Scientific Review Administrator, National Institutes of Health, National Center for Research Resources, Office of Review, 6701 Democracy Boulevard, 1 Democracy Plaza, Room 1078, Bethesda, MD 20817, (301) 435-0813, hongb@mail.nih.gov.

Name of Committee: National Center for Research Resources Special Emphasis Panel, Research Infrastructure.

Date: June 30-July 1, 2003.

Time: June 30, 2003, 8 a.m. to Adjournment.

Agenda: To review and evaluate grant applications.

Place: Residence Inn Bethesda, 7335 Wisconsin Avenue, Bethesda, MD 20814.

Contact Person: Marc Rigas, PhD, Scientific Review Administrator, National Institutes of Health, National Center for Research Resources, Office of Review, 6701 Democracy Boulevard, 1 Democracy Plaza, Room 1080, Bethesda, MD 20817-4814, 301 435-0806, rigasm@mail.nih.gov.

Name of Committee: National Center for Research Resources Special Emphasis Panel, Science Education Partnership Award Special Emphasis Panel.

Date: July 15-16, 2003.

Time: July 15, 2003, 8 a.m. to Adjournment.

Agenda: To review and evaluate grant applications.

Place: Bethesda Marriott Suites, 6711 Democracy Boulevard, Bethesda, MD 20817.

Contact Person: John L. Meyer, PhD, Scientific Review Administrator, Office of Review, National Center For Research Resources, National Institutes of Health, 6701 Democracy Boulevard, 1 Democracy Plaza, Bethesda, MD 20817, 301-435-0807, meyerj@ncrr.nih.gov.

(Catalogue of Federal Domestic Assistance Program Nos. 93.306, Comparative Medicine; 93.333, Clinical Research; 93.371, Biomedical Technology; 93.389, Research Infrastructure, 93.306, 93.333, National Institutes of Health, HHS)
Dated: May 8, 2003.
Anna P. Snouffer,
Deputy Director, Office of Federal Advisory Committee Policy.

[FR Doc. 03-12082 Filed 5-14-03; 8:45 am]

BILLING CODE 4140-01-M